DEPARTMENT OF THE INTERIOR

National Park Service

[NPS-NERO-CHHO-17341; PPNCCHOHS0-PPMPSPD1Z.YM0000]

Request for Nominations for the Chesapeake and Ohio Canal National Historical Park Commission

AGENCY: National Park Service, Interior.

ACTION: Notice of request for nominations.

SUMMARY: The National Park Service, U.S. Department of the Interior, is seeking nominations for individuals to be considered for appointment to the Chesapeake and Ohio Canal National Historical Park Commission. The Commission was established by section 6 of the Chesapeake and Ohio Canal Development Act (16 U.S.C. 410y-4), and terminated January 8, 2011. The Commission has been extended by Public Law 113-178 and the new termination date is September 26, 2024.

DATES: Written nominations must be received by May 8, 2015.

ADDRESSES: Send nominations to: Kevin Brandt, Superintendent and Designated Federal Official, Chesapeake and Ohio Canal National Historical Park, 1850 Dual Highway, Suite 100, Hagerstown, Maryland, 21740-6620, or by email kevin_brandt@nps.gov.

FOR FURTHER INFORMATION CONTACT: Kevin Brandt, Superintendent and Designated Federal Official, Chesapeake and Ohio Canal National Historical Park, 1850 Dual Highway, Suite 100, Hagerstown, Maryland, 21740-6620, or by email kevin_brandt@nps.gov.

SUPPLEMENTARY INFORMATION: The purpose of the Commission is to meet and consult with the Secretary of the Interior, or the Secretary's designee, on general policies and specific matters related to the administration and development of the Chesapeake and Ohio Canal National Historical Park.

Nominations should describe and document the proposed member's qualifications for membership to the Commission, and include a resume listing his or her full name, title, address, telephone, email, and fax number.

The Commission shall be composed of 19 members appointed by the Secretary for 5-year terms as follows: (1) Eight members to be appointed from recommendations submitted by the boards of commissioners or the county councils, as the case may be, of Montgomery, Frederick, Washington, and Allegany Counties, Maryland, of which two members shall be appointed from recommendations submitted by each such board or council, as the case may be; (2) Eight members to be appointed from recommendations submitted by the Governor of the State of Maryland, the Governor of the State of West Virginia, the Governor of the Commonwealth of Virginia, and the Commissioner of the District of Columbia, of which two members shall be appointed from recommendations submitted by each such Governor or Commissioner, as the case may be; and (3) Three members to be appointed by the Secretary, one of whom shall be designated Chairman of the Commission and two of who shall be members of regularly constituted conservation organizations.

Some Commissioners may serve as Special Governmental Employees, which may include the completion of an annual financial disclosure report and annual ethics training.

Members of the Commission will receive no pay, allowances, or benefits by reason of their service on the Commission. However, while away from their homes or regular places of business in the performance of services for the Commission as approved by the Designated Federal Officer (DFO), members may be allowed travel expenses, including per diem in lieu of subsistence, in the same manner as persons employed intermittently in Government service are allowed such expenses under section 5703 of title 5 of the United State Code.

Individuals who are Federally registered lobbyists are ineligible to serve on all FACA and non-FACA boards, committees, or councils in an individual capacity. The term “individual capacity” refers to individuals who are appointed to exercise their own individual best judgment on behalf of the government, such as when they are designated Special Government Employees, rather than being appointed to represent a particular interest.

Seeking Nominations for Membership

We are seeking nominations for commission members in the following category: Three members to be appointed by the Secretary, one of whom shall be designated Chairman of the Commission and two of whom shall be members of regularly constituted conservation organizations. Nominations should include a resume providing an adequate description of the nominee's qualifications, including information that would enable the Department of the Interior to make an informed decision regarding meeting the membership requirements of the Commission, and to permit the Department to contact a potential member.

Meetings may take place at such times as designated by the DFO. Members are expected to make every effort to attend all meetings. Members may not appoint deputies or alternates.

Dated: February 20, 2015.
Alma Ripps,
Chief, Office of Policy.

[FR Doc. 2015-06666 Filed 3-23-15; 8:45 am]

BILLING CODE 4310-EE-P